FEDERAL RESERVE SYSTEM

Agency Information Collection Activities: Announcement of Board Approval under Delegated Authority and Submission to OMB

AGENCY: Board of Governors of the Federal Reserve System.

SUMMARY: The Board of Governors of the Federal Reserve System (Board) is adopting a proposal to extend for three years, without revision, the Reporting and Recordkeeping Requirements Associated with Regulation KK (FR KK; OMB No. 7100-0364).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Reporting and Recordkeeping Requirements Associated with Regulation KK.¹

¹ The Board has modified the title of this information collection to reflect that the Board's Regulation KK does not include any disclosure collections of information, as defined by the Paperwork Reduction Act (PRA). Specifically, the Board has determined that section 237.1(h), previously cleared as part of the FR KK, no longer includes a disclosure collection of information, because the conditions triggering the disclosure will not occur. In addition, the Board has determined to omit from the FR KK the following provisions of Regulation KK that were formerly referenced in the clearance, because it has determined that they do not constitute collections of information under the PRA: sections 237.1(d); 237.5(c)(2)(i); 237.8(c)(2); 237.8(d)(5), (12), and (13); 238.8(e); and 237.8(f)(2), (3), and (4).

Collection identifier: FR KK.

OMB control number: 7100-0364.

General description of collection: Pursuant to sections 731 and 764 of the Dodd-Frank Wall Street Reform and Consumer Protection Act (Dodd-Frank Act), the Board, Office of the Comptroller of the Currency, Federal Deposit Insurance Corporation, Farm Credit Administration, and Federal Housing Finance Agency (collectively, the agencies) have adopted regulations, including the Board's Regulation KK—Swaps Margin and Swaps Push-Out (12 CFR part 237), establishing capital requirements and initial and variation margin requirements for certain entities on certain non-cleared swaps and non-cleared security-based swaps. These regulations include reporting and recordkeeping requirements.²

² See 80 FR 74839 (November 30, 2015); see also 79 FR 340 (January 3, 2014). The Board-specific rules have been codified in Regulation KK.

Frequency: Event generated.

Respondents: Any swap entity ³ that is a state member bank (as defined in 12 CFR 208.2(g)), bank holding company (as defined in 12 U.S.C. 1841), savings and loan holding company (as defined in 12 U.S.C. 1467a), foreign banking organization (as defined in 12 CFR 211.21(o)), foreign bank that does not operate an insured branch, state branch or state agency of a foreign bank (as defined in 12 U.S.C. 3101(b)(11) and (12)), or Edge or agreement corporation (as defined in 12 CFR 211.1(c)(2) and (3)), as well as any other entity determined to be a covered swap entity by the Board.

³ A “swap entity” means a person that is registered with the Commodity Futures Trading Commission as a swap dealer or major swap participant pursuant to the Commodity Exchange Act of 1936, or a person that is registered with the U.S. Securities and Exchange Commission as a security-based swap dealer or a major security-based swap participant pursuant to the Securities Exchange Act of 1934 (12 CFR 237.2).

Total estimated number of respondents: 1 for reporting requirements, 41 for recordkeeping requirements.⁴

⁴ The burden table in the initial Federal Register notice incorrectly stated that the estimated number of respondents for the recordkeeping requirements is 1, and that the estimate has been corrected to 41, given that the requirements are ongoing for firms engaging in the activities covered by the regulation provisions at issue.

Estimated average hours per response:

Reporting Sections 237.8(c) and 237.8(d)-240.

Reporting Section 237.8(f)(3)-50.

Reporting Section 237.9(e)-10.

Reporting Sections 237.22(a)(1) and 237.22(e) (Board only)-7.

Recordkeeping Section 237.2 (definition of “eligible master netting agreement,” item 4)-1.

Recordkeeping Section 237.7(c)-100.

Recordkeeping Section 237.8(g)-2.

Recordkeeping Section 237.8(h)-20.

Recordkeeping Section 237.10-2.

Total estimated annual burden hours: 5,452.⁵

⁵ More detailed information regarding this collection, including more detailed burden estimates, can be found in the OMB Supporting Statement posted at https://www.federalreserve.gov/apps/reportingforms/home/review. On the page displayed at the link, you can find the OMB Supporting Statement by referencing the collection identifier, FR KK.

Current actions: On March 1, 2023, the Board published a notice in the Federal Register (88 FR 12936) requesting public comment for 60 days on the extension, without revision, of the FR KK. The comment period for this notice expired on May 1, 2023. The Board did not receive any comments relevant to this collection or to the PRA.

Board of Governors of the Federal Reserve System, July 13, 2023.
Erin Cayce,
Assistant Secretary of the Board.

[FR Doc. 2023-15239 Filed 7-18-23; 8:45 am]

BILLING CODE 6210-01-P